DEPARTMENT OF COMMERCE

National Oceanic and Atmospheric Administration

RIN 0648-XA860

Endangered and Threatened Species; Take of Anadromous Fish

AGENCY: National Marine Fisheries Service (NMFS), National Oceanic and Atmospheric Administration (NOAA), Commerce.

ACTION: Receipt of application for scientific research permit 16608 and request for comment.

SUMMARY: Notice is hereby given that NMFS has received an application for scientific research from the U.S. Bureau of Reclamation (USBR) in Sacramento, CA. This document serves to notify the public of the availability of the permit application for review and comment before a final approval or disapproval is made by NMFS.

DATES: Written comments on the permit application must be received at the appropriate address or fax number (see ADDRESSES) no later than 5 p.m. Pacific Standard Time on January 12, 2012.

ADDRESSES: Written comments on the modification request should be sent to the appropriate office as indicated below. Comments may also be sent via fax to the number indicated for the request. Comments will not be accepted if submitted via email or the Internet. The applications and related documents are available for review, by appointment, for permit 16608: Protected Resources Division, NMFS, 650 Capitol Mall, Suite 5-100, Sacramento, CA 95814 (Ph: (916) 930-3600, Fax: (916) 930-3629). Documents may also be reviewed by appointment in the Office of Protected Resources, F/PR3, NMFS, 1315 East-West Highway, Silver Spring, MD 20910-3226 (301) 713-1401.

FOR FURTHER INFORMATION CONTACT: Shirley Witalis at phone number: (916) 930-3606, or email: Shirley.Witalis@noaa.gov.

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to the federally-listed threatened California Central Valley (CCV) steelhead (Oncorhynchus mykiss) distinct population segment.

New Application Received

The USBR, in affiliation with the San Joaquin River Restoration Program (SJRRP), requests a 3-year permit to conduct the SJRRP Steelhead Monitoring Plan (SMP) in the San Joaquin River upstream of the Merced River confluence, in the Central Valley, California.

The SJRRP intends to research the presence or absence of CCV steelhead within the SJRRP restoration area, defined as the mainstem San Joaquin River from Friant Dam to the confluence of the Merced River. The SMP focuses monitoring efforts on the CCV steelhead adult migration from mid-December through mid-March when the SJRRP Interim Flows Project is implemented to maintain sufficient river conditions for fish in the SJRRP restoration area.

The SMP includes several sampling methodologies in response to monitoring challenges in the restoration area. Trammel nets will be deployed to drift during short durations in high velocity water in areas where adult steelhead are most likely to be present. Raft mounted electrofishers will be used to navigate through shallow water (e.g., backwater sloughs, around in-river structures, under bypasses) locations where other sampling methodologies are ineffective. Fyke nets with wing walls and fish traps will be deployed for effective sampling during pulse flows, flood releases, and high riverine turbidity. Monitoring staff will employ best management practices and follow NMFS electrofishing guidelines to minimize sampling effects on fish.

All captured steelhead will be recorded, measured, identified as to gender, sampled for scales and tissues, and checked for injuries and the presence of tags. Additionally, fish will be Floy-tagged with a unique identification number to document any recaptures that may occur in the study area. Sampled fish will then be transported by tank truck equipped with oxygen diffusers, and acclimated to river temperature prior to release into suitable habitat downstream of the mouth of the Merced River.

The SMP will monitor continuously from December 1 through March 31 throughout the study period. USBR requests authorization for an estimated annual non-lethal take of 6 steelhead by fyke net, 10 steelhead by electrofisher, and 2 steelhead by trammel net. No indirect mortality is anticipated during fish capture, sampling and release activities carried out for the study.

Dated: December 7, 2011.
Angela Somma,
Chief, Endangered Species Division, Office of Protected Resources, National Marine Fisheries Service.

[FR Doc. 2011-31956 Filed 12-12-11; 8:45 am]

BILLING CODE 3510-22-P